OFFICE OF PERSONNEL MANAGEMENT

5 CFR Part 890

RIN 3203-AK90

Suspension of Enrollment in the Federal Employees Health Benefits (FEHB) Program for Peace Corps Volunteers

AGENCY: Office of Personnel Management.

ACTION: Interim rule.

SUMMARY: The Office of Personnel Management is issuing an interim regulation to allow Peace Corps volunteers who are FEHB Program enrolled annuitants, survivors, and former spouses to suspend their FEHB enrollments and then return to the FEHB Program during the Open Season, or return to FEHB coverage immediately, if they involuntarily lose health benefits coverage under the Peace Corps. The intent of this rule is to allow these beneficiaries to avoid the expense of continuing to pay FEHB Program premiums while they have other health coverage as Peace Corps volunteers, without endangering their ability to return to the FEHB Program in the future.

DATES: Effective Date: Effective December 30, 2005.

FOR FURTHER INFORMATION CONTACT: Michael W. Kaszynski, Policy Analyst, Insurance Policy, OPM, Room 3425, 1900 E Street, NW., Washington, DC 20415-0001. Phone number: 202-606-0004. E-mail: mwkaszy@opm.gov.

SUPPLEMENTARY INFORMATION: The Office of Personnel Management (OPM) allows certain Medicare, Medicaid, CHAMPVA or TRICARE or TRICARE-for-Life eligible FEHB Program annuitants, survivors, and former spouses to suspend their FEHB enrollments and then return to the FEHB Program during the Open Season; or return to FEHB coverage immediately, if they involuntarily lose coverage. This has allowed these beneficiaries to avoid the expense of continuing to pay FEHB Program premiums while they are using certain Medicare, Medicaid, TRICARE or TRICARE-for-Life or CHAMPVA coverage without endangering their ability to return to the FEHB Program in the future. We have determined that individuals eligible for coverage under the Peace Corps should be allowed the same right to suspend FEHB coverage and reenroll in the FEHB Program as we afford these other groups.

Regulatory Flexibility Act

I certify that this regulation will not have a significant economic impact on a substantial number of small entities because the regulation affects only health insurance carriers under the Federal Employees Health Benefits Program.

Executive Order 12866, Regulatory Review

This regulation has been reviewed by the Office of Management and Budget in accordance with Executive Order 12866.

List of Subjects in 5 CFR Part 890

Administrative practice and procedure, Government employees, Health facilities, Health insurance, Health professionals, Hostages, Iraq, Kuwait, Lebanon, Military Personnel, Reporting and recordkeeping requirements, Retirement.

Office of Personnel Management.
Linda M. Springer,
Director.

For the reasons set forth in the preamble, OPM is amending 5 CFR Part 890 as follows:

PART 890—FEDERAL EMPLOYEES HEALTH BENEFITS PROGRAM

1. The authority citation for part 890 continues to read as follows:

Authority: 5 U.S.C. 8913, sec. 890.803 also issued under 50 U.S.C. 403p, 22 U.S.C. 4069c and 4069c-1; subpart L also issued under sec. 599C of Pub. L. 101-513, 104 Stat. 2064, as amended; sec. 890.102 also issued under secs. 11202(f), 11232(e), 11246 (b) and (c) of Pub. L. 105-33, 111 Stat. 251; and sec. 721 of Pub. L. 105-261, 112 Stat. 2061, unless otherwise noted.

Subpart C and Subpart H—[Amended]

2. In part 890, subparts C and H, add the phrase “Peace Corps or” before the acronym “CHAMPVA” each time it appears.

[FR Doc. 05-23429 Filed 11-29-05; 8:45 am]

BILLING CODE 6325-39-P